DEPARTMENT OF THE INTERIOR

Bureau of Land Management

[LLCAD08000.L16100000.DT0000.19XL1109AF.LXSSB0010000 (MO#4500137107)]

Notice of Availability of the Record of Decision for the Approved Land Use Plan Amendment to the California Desert Conservation Area Plan for the West Mojave Route Network Project, California

AGENCY: Bureau of Land Management, Interior.

ACTION: Notice of availability.

SUMMARY: In accordance with the National Environmental Policy Act of 1969, as amended, and the Federal Land Policy and Management Act of 1976, as amended, the Bureau of Land Management (BLM) announces the availability of the Record of Decision (ROD) for the West Mojave Route Network Project (WMRNP) Approved Land Use Plan Amendment (LUPA) for public lands located in Inyo, Kern, Los Angeles, Riverside, and San Bernardino counties, California.

DATES: The California State Director signed the ROD on October 3, 2019, which constitutes the final decision of the BLM, and the Approved LUPA takes effect immediately.

ADDRESSES: The ROD/Approved LUPA and associated Travel Management Plans (TMPs) are available electronically on the BLM ePlanning project website at https://go.usa.gov/xE6YH. Copies of the ROD/Approved LUPA and TMPs are available for public inspection at the BLM-Ridgecrest Field Office, 300 South Richmond Road, Ridgecrest, CA 93555; the BLM-Barstow Field Office, 2601 Barstow Road, Barstow, CA 92311; and the BLM-California Desert District Office, 22835 Calle San Juan de Los Lagos, Moreno Valley, CA 92553.

FOR FURTHER INFORMATION CONTACT: Matt Toedtli, BLM Planning and Environmental Coordinator, telephone: 760-252-6026; address: 2601 Barstow Road, Barstow, CA 92311; email: mtoedtli@blm.gov. Persons who use a telecommunications device for the deaf (TDD) may call the Federal Relay Service (FRS) at 1-800-877-8339 to contact Mr. Toedtli during normal business hours. The FRS is available 24 hours a day, 7 days a week, to leave a message or question. You will receive a reply during normal business hours.

SUPPLEMENTARY INFORMATION: The ROD also approves a travel and transportation route network and nine associated TMPs. These implementation-level decisions for each of the nine individual travel management plans are subject to appeal pursuant to 43 CFR, part 4, subpart E.

The ROD contains the BLM's decisions and rationale, and a brief summary of alternatives considered, public involvement, required findings, and other information. The ROD includes three appendices: United States Fish and Wildlife Service Biological Opinion (Appendix A), an Errata to the Final Supplemental Environmental Impact Statement (Appendix B), and the WMRNP Programmatic Agreement (Appendix C).

The WMRNP includes both plan-level and implementation-level actions. The WMRNP ROD approves seven land use plan amendments to the motor vehicle access, recreation and livestock grazing elements within the California Desert Conservation Area Plan for the West Mojave planning area. It also approves nine travel management plans, including a designated route network and implementation strategies and actions.

The WMRNP ROD, Approved LUPA and Final Supplemental Environmental Impact Statement (EIS), including Errata, were developed pursuant to a U.S. District Court Order that partially remanded the 2006 West Mojave (WEMO) Plan Amendment ROD to the BLM and directed the BLM to reconsider route designation throughout the WEMO Planning Area, as well as other specified issues in the 2006 WEMO Plan. In response to public comments, updated information, and internal review, the BLM did not carry forward the Preferred Alternative identified in the Draft LUPA/Draft Supplemental EIS, published in March 2018. Rather, the Proposed LUPA/Final Supplemental EIS, published on April 26, 2019, identified Alternative 5 as the Selected Alternative. There were no inconsistencies with State- or local-plans, policies or programs identified during the Governor's consistency review of the Proposed LUPA/Final Supplemental EIS.

At the close of the protest period, 29 protests were received. The Director's Protest Summary Report containing Protest Resolution is available electronically at https://www.blm.gov/programs/planning-and-nepa/public-participation/protest-resolution-reports. Minor modifications were made to the Final Supplemental EIS to provide further clarification of the environmental impacts from the decisions. These minor modifications and changes in land status from the John D. Dingell, Jr. Conservation, Management, and Recreation Act (Pub. L. 116-9) resulted in an Errata to the WMRNP Final Supplemental EIS.

In response to changes in land status from Public Law 116-9 and comments received during the protest period, modifications were made to the travel and transportation management route network. The Selected Alternative has approximately 6,000 miles of OHV open and limited routes and 230 miles of OHV closed routes that include non-motorized and non-mechanized use designations.

Any party adversely affected by the approved route designations may appeal within 30 days of publication of this Notice of Availability pursuant to 43 CFR, part 4, subpart E. The appeal must be filed with the California Desert District Manager at the previously listed address (see ADDRESSES). Please consult the appropriate regulations (43 CFR, part 4, subpart E) for further appeal requirements.

Before including your phone number, email address, or other personal identifying information in your appeal, you should be aware that your entire appeal—including your personal identifying information—may be made publicly available at any time. While you can ask us in your appeal to withhold your personal identifying information from public review, we cannot guarantee that we will be able to do so.

(Authority: 40 CFR 1506.6)

Danielle Chi,
Deputy State Director, Fire and Resources.

[FR Doc. 2019-21556 Filed 10-3-19; 8:45 am]

BILLING CODE 4310-40-P